DEPARTMENT OF JUSTICE

Notice of Lodging Proposed Consent Decree

In accordance with Departmental Policy, 28 CFR 50.7, notice is hereby given that a proposed Consent Decree in United States v. D.R. Horton, Inc., Case No. 8:20-cv-02271-CEH-CPT, was lodged with the United States District Court for the Middle District of Florida, Tampa Division, on October 1, 2020.

This proposed Consent Decree concerns a complaint filed by the United States, pursuant to Sections 309 and 404 of the Clean Water Act (“CWA”), 33 U.S.C. 1319 and 1344, against Defendant D.R. Horton, Inc. (“Defendant”) for discharging pollutants into waters of the United States in Manatee County, Florida without authorization, in violation of Section 301(a) of the CWA, 33 U.S.C. 1311(a). The proposed Consent Decree resolves these allegations by requiring the Defendant to perform mitigation and pay a civil penalty.

The Department of Justice will accept written comments relating to this proposed Consent Decree for thirty (30) days from the date of publication of this Notice. Please address comments to Martin McDermott, United States Department of Justice, Environmental Defense Section, Post Office Box 7611, Washington, DC 20044-7611, and refer to United States v. D.R. Horton, Inc., DJ #90-5-1-1-21336.

The proposed Consent Decree may be examined at the Clerk's Office, United States District Court for the Middle District of Florida, Tampa Division, Sam M. Gibbons United States Courthouse, 801 North Florida Avenue, Tampa, FL 33602. In addition, the proposed Consent Decree may be examined electronically at http://www.justice.gov/enrd/consent-decrees.

Cherie Rogers,
Assistant Section Chief, Environmental Defense Section, Environment and Natural Resources Division.

[FR Doc. 2020-22383 Filed 10-8-20; 8:45 am]

BILLING CODE 4410-15-P